FEDERAL COMMUNICATIONS COMMISSION

47 CFR Part 20

[PS Docket Nos. 11-153 and 10-255; Report No. 2985]

Petition for Reconsideration of Action in Rulemaking Proceeding

AGENCY: Federal Communications Commission.

ACTION: Petition for reconsideration.

SUMMARY: In this document, a Petition for Reconsideration has been filed in the Commission's Rulemaking proceeding by CTIA.

DATES: Oppositions to the Petitions must be filed on or before August 15, 2013. Replies to an opposition must be filed on or before August 26, 2013.

ADDRESSES: Federal Communications Commission, 445 12th Street SW., Washington, DC 20554.

FOR FURTHER INFORMATION CONTACT: Aaron Garza, Public Safety and Homeland Security Bureau, 202-418-1175, aaron.garza@fcc.gov <mailto:aaron.garza@fcc.gov>.

SUPPLEMENTARY INFORMATION: This is a summary of Commission's document, Report No. 2985, released June11, 2013. The full text of Report No. 2985 is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subjects: Facilitating the Deployment of Text-to-911 and Other Next Generation 911 Applications; Framework for Next Generation 911 Deployment, FCC 13-64, published at 78 FR 32169, May 29, 2013, in PS Docket No. 11-153 and PS Docket No. 10-255, published pursuant to 47 CFR 1.429(e). See also 47 CFR 1.4(b)(1) of the Commission's rules.

Number of Petitions Filed: 1.

Federal Communications Commission.
Marlene H. Dortch,
Secretary, Office of the Secretary, Office of Managing Director.

[FR Doc. 2013-18370 Filed 7-30-13; 8:45 am]

BILLING CODE 6712-01-P